DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than October 5, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Providing Primary Care and Preventive Medical Services in Ryan White-Funded Medical Care Settings, OMB No. 0915-xxxx—New

Abstract: Since 1990, the Ryan White HIV/AIDS Program (Ryan White Program) has funded the provision of HIV care to eligible persons living with HIV (PLWH). With the advent of effective antiretroviral treatment, PLWH are living longer and normal lives. With this shift, PLWH are beginning to experience typical health issues that come with aging. Ryan White Program-funded clinics are seeing their patients develop other common preventable chronic diseases such as diabetes, heart disease, and hypertension. In addition, clinicians need to address non-primary care issues such mental health and substance abuse issues that are prevalent to PLWH and interferes with managing and treating HIV and other conditions. By shifting HIV care into a broader system of primary care, including preventative care, clinics can offer a more holistic approach to further improving the lives of PLWH.

However, with limited resources, these Ryan White-funded clinics may struggle to provide primary and preventative care services in-house or have insufficient referral systems. This study will examine how Ryan White-funded clinics are integrating the provision of primary and preventative care services to the overall HIV care model. Specifically, it will look at the protocols and strategies used by clinics to manage care for PLWH, specifically care coordination, referral systems, and patient-centered strategies to keep PLWH in care.

Need and Proposed Use of the Information: The proposed study will provide the HRSA HIV/AIDS Bureau and policymakers with a better understanding of how the Ryan White Program currently provides primary and preventative care to PLWH. The first online survey will be targeted to clinic directors from a sample of about 160 Ryan White-funded clinics and will collect data on care models used; primary care services, including preventive services; and coordination of care. Data collected from this survey will provide the HIV/AIDS Bureau with a general overview of the various HIV care models used as well as insight to possible facilitators and barriers to providing primary and preventative care services. More in-depth data collection will be conducted with a smaller number of 30 clinics representing clinic type (publicly funded community health organization, other community-based organization, health department, and hospital or university-based) and size. There will be three data collection instruments used: (1) an online survey completed by three clinicians at each of the clinics, (2) a data extraction of select primary and preventative care services, and (3) a telephone interview with the medical director. The clinician survey will provide a more in-depth look at the clinic protocols and strategies and how they are being used and implemented by the clinicians. The data extraction will provide quantitative information on the provision of select primary and preventative care services within a certain time period. With these data, the study team can assess the accuracy of information provided in the online surveys on the provision of care. Lastly, the interviews with the medical director will allow the study team to follow-up on the results of the survey and data extraction and collect qualitative data and more in-depth details on the provision of primary and preventative care services, specifically any facilitators and barriers. These data will provide the HIV/AIDS Bureau with the background to make informed policies and changes to the Ryan White Program in this new era when the well-being of PLWH demands a more complex and long-term HIV care model.

Likely Respondents: Clinics funded by the Ryan White HIV/AIDS Program.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours

Form name | Number of responses | Number of responses per respondents | Total responses | Average burden per response (in hours) | Total burden hours for all responses
Clinic Director Online Survey | 130 | 1 | 130 | 0.5 | 65
Clinician Online Survey | 90 | 1 | 90 | 0.5 | 45
Data Extraction | 30 | 1 | 30 | 4.0 | 120
Medical Director Interview Guide | 30 | 1 | 30 | 0.5 | 15
Total | 280 |  | 280 |  | 245

Jackie Painter,
Director, Division of the Executive Secretariat.

[FR Doc. 2015-22058 Filed 9-3-15; 8:45 am]

BILLING CODE 4165-15-P